DEPARTMENT OF THE INTERIOR

Bureau of Indian Affairs

25 CFR Part 15

Office of the Secretary

43 CFR Parts 4, 30

[Docket ID BIA-2009-0001]

RIN 1076-AF07

Indian Trust Management Reform—Implementation of Statutory Changes

AGENCY: Bureau of Indian Affairs, Office of the Secretary, Interior.

ACTION: Final rule; confirmation.

SUMMARY: The Office of the Secretary of the Department of the Interior and Bureau of Indian Affairs (collectively, the Department) are confirming the interim final rule published and effective on February 10, 2011, to implement the latest statutory changes to the Indian Land Consolidation Act, as amended by the 2004 American Indian Probate Reform Act and later amendments (ILCA/AIPRA). The February 10, 2011, publication stated that the Department would review comments on the interim final rule and either confirm the rule or initiate a proposed rulemaking. The Department did not receive any adverse comments, and therefore confirms the rule without change.

DATES: The February 10, 2011, effective date of the interim final rule is confirmed.

FOR FURTHER INFORMATION CONTACT: Michele Singer, Office of Regulatory Affairs & Collaborative Action, U.S. Department of the Interior, 1001 Indian School Road, NW., Suite 312, Albuquerque, NM 87104, phone: (505) 563-3805; fax: (505) 563-3811; e-mail: Michele.Singer@bia.gov.

SUPPLEMENTARY INFORMATION: On February 10, 2011, the Department published an interim final rule (76 FR 7500), under Docket No. BIA-2009-001, to implement the latest statutory changes to ILCA/AIPRA. The rule's changes primarily affect the probate of permanent improvements owned by a decedent that are attached to trust or restricted property owned by the decedent. These changes also affect the purchase of small fractional interests at probate by restricting who may purchase without consent and what interests may be purchased without consent.

The Department stated in the interim final rule that it would address comments received and, by a future publication in the Federal Register, confirm the interim final rule, with or without change, or initiate a proposed rulemaking.

The Department received one comment that expressly indicated it was not a substantive criticism of the rule, but requested a definition for the term “probate.” The regulations being amended by the interim final rule, 25 CFR part 15 and 43 CFR part 30, already contain a definition of “probate.” See 25 CFR 15.2, 43 CFR 4.201, 30.101. Consequently, the Department did not make any change to the interim final rule as a result of this comment. The comment also included a suggestion regarding estate planning that is outside the scope of the interim final rule.

For these reasons, the Department is confirming the interim final rule without change.

List of Subjects

25 CFR Part 15

Estates, Indians—law.

43 CFR Part 4

Administrative practice and procedure, Claims, Indians, Lawyers.

43 CFR Part 30

Administrative practice and procedure, Claims, Estates, Indians, Lawyers.

Dated: June 27, 2011.
Donald E. Laverdure,
Principal Deputy Assistant Secretary.
Dated: July 12, 2011.
Rhea S. Suh,
Assistant Secretary—Policy, Management and Budget.

[FR Doc. 2011-19060 Filed 7-27-11; 8:45 am]

BILLING CODE 4310-6W-P